ENVIRONMENTAL PROTECTION AGENCY

[FRL-8900-6]

Cross-Media Electronic Reporting Rule State Authorized Program Revision/Modification Approvals: State of Delaware

AGENCY: Environmental Protection Agency (EPA).

ACTION: Notice.

SUMMARY: This notice announces EPA's approval, under regulations for Cross-Media Electronic Reporting, of the State of Delaware's request to revise/modify programs to allow electronic reporting for certain of their EPA-authorized programs.

DATES: EPA's approval is effective May 5, 2009.

FOR FURTHER INFORMATION CONTACT: Evi Huffer, U.S. Environmental Protection Agency, Office of Environmental Information, Mail Stop 2823T, 1200 Pennsylvania Avenue, NW., Washington, DC 20460, (202) 566-1697, huffer.evi@epa.gov, or David Schwarz, U.S. Environmental Protection Agency, Office of Environmental Information, Mail Stop 2823T, 1200 Pennsylvania Avenue, NW., Washington, DC 20460, (202) 566-1704, schwarz.david@epa.gov.

SUPPLEMENTARY INFORMATION:

On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Under subpart D of CROMERR, State, tribal or local government agencies that receive, or wish to begin receiving, electronic reports under their EPA-authorized programs must apply to EPA for a revision or modification of those programs and get EPA approval. Subpart D provides standards for such approvals based on consideration of the electronic document receiving systems that the state, tribe, or local government will use to implement the electronic reporting. Additionally, in 3.1000(b) through (e) of 40 CFR part 3, subpart D provides special procedures for program revisions and modifications to allow electronic reporting, to be used at the option of the State, tribe or local government in place of procedures available under existing program-specific authorization regulations. An application submitted under the subpart D procedures must show that the State, tribe or local government has sufficient legal authority to implement the electronic reporting components of the programs covered by the application and will use electronic document receiving systems that meet the applicable subpart D requirements.

On August 21, 2008, the State of Delaware Department of Natural Resources and Environmental Control (DEDNREC) submitted an application for their Online Reporting System (ORS) electronic document receiving system for revision or modification of EPA-authorized programs under 40 CFR parts 51, 60, 122, and 271. EPA reviewed DEDNREC's request to revise/modify their EPA-authorized programs and, based on this review, EPA determined that the application met the standards for approval of authorized program revisions/modifications set out in 40 CFR part 3, subpart D. In accordance with 40 CFR 3.1000(d), this notice of EPA's decision to approve DEDNREC's request for revision/modification to certain of their authorized programs is being published in the Federal Register.

Specifically, EPA has approved DEDNREC's request for revisions/modifications to the following of their authorized programs to allow electronic reporting under 40 CFR parts 51, 61, 122, 261-265:

• Part 51—Requirements for Preparation, Adoption, and Submittal of Implementation Plans;

• Part 60—Standards of Performance for New Stationary Sources;

• Part 123—National Pollutant Discharge Elimination System (NPDES) State Program Requirements; and

• Part 271—Requirements for Authorization of State Hazardous Waste Programs.

DEDNREC was notified of EPA's determination to approve its application with respect to the authorized programs listed above in a letter dated April 23, 2009.

Dated: April 23, 2009.
Lisa Schlosser,
Director, Office of Information Collection.

[FR Doc. E9-10332 Filed 5-4-09; 8:45 am]

BILLING CODE 6560-50-P